DEPARTMENT OF DEFENSE

Office of the Secretary

Defense Advisory Committee on Women in the Services (DACOWITS); Meeting

AGENCY: Under Secretary of Defense for Personnel and Readiness, Department of Defense (DoD).

ACTION: Notice of Federal Advisory Committee meeting.

SUMMARY: The DoD is publishing this notice to announce that the following Federal Advisory Committee meeting of the DACOWITS will take place.

DATES:

Day 1—Open to the public Tuesday, December 6, 2022 from 8 a.m. to 11:30 a.m.

Day 2—Open to the public Wednesday, December 7, 2022 from 8 a.m. to 11:45 a.m.

ADDRESSES: The meeting will take place at the Association of the United States Army Conference Center, located at 2425 Wilson Boulevard, Arlington, Virginia 22201.

FOR FURTHER INFORMATION CONTACT: COL Seana Jardin, Designated Federal Officer (DFO), (571) 232-7415 (voice), seana.m.jardin.mil@mail.mil (email). Website: https://dacowits.defense.gov.

The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: Additional information, including the agenda or any updates to the agenda, is available at the DACOWITS website, https://dacowits.defense.gov/. Materials presented in the meeting may also be obtained on the DACOWITS website.

Purpose of the Meeting: The purpose of the meeting is for the DACOWITS to receive briefings and have discussions on topics related to the recruitment, retention, employment, integration, well-being, and treatment of women in the Armed Forces of the United States.

Agenda: Tuesday, December 6, 2022, from 8:00 a.m. to 11:30 a.m.—Welcome, Introductions, Announcements, Request for Information Status Update, Briefings, and DACOWITS discussion. Wednesday, December 7, 2022, from 8:00 a.m. to 11:45 a.m.—Welcome, Introductions, Opening Remarks, Announcements, Briefings, DACOWITS discussion, and Public Comment Period.

Meeting Accessibility: Pursuant to 5 U.S.C. 552b and 41 CFR 102-3.140 through 102-3.165, this meeting is open to the public, subject to availability of space, from 8:00 a.m. to 11:30 a.m. on December 6, 2022; and 8:00 a.m. to 11:45 a.m. on December 7, 2022. The meeting will also be streamed by videoconference. The number of participants is limited and is on a first-come basis. Any member of the public who wishes to participate must register by contacting DACOWITS at osd.pentagon.ousd-p-r.mbx.dacowits@mail.mil or by contacting Mr. Robert Bowling at (703) 380-0116 no later than Monday, November 28, 2022. Once registered, the videoconference information will be provided.

Special Accommodations: Individuals requiring special accommodations to access the public meeting should contact Mr. Robert Bowling no later than Monday, November 28, 2022 so that appropriate arrangements can be made.

Written Statements: Pursuant to 41 CFR 102-3.140, and section 10(a)(3) of the FACA, interested persons may submit a written statement to the DACOWITS. Individuals submitting a written statement must submit their statement no later than 5:00 p.m., Monday, November 28, 2022 to Mr. Robert Bowling (703) 380-0116 (voice) or to robert.d.bowling1.mil@mail.mil (email). Mailing address is 4800 Mark Center Drive, Suite 04J25-01, Alexandria, VA 22350. Members of the public interested in making an oral statement, must submit a written statement. If a statement is not received by Monday, November 28, 2022, it may not be provided to, or considered by the DACOWITS during this quarterly business meeting. After reviewing the written statements, the Chair and the DFO will determine if the requesting persons are permitted to make an oral presentation The DFO will review all timely submissions with the DACOWITS Chair and ensure they are provided to the members of the DACOWITS.

Dated: October 19, 2022.
Kayyonne T. Marston,
Alternate OSD Federal Register Liaison Officer, Department of Defense.

[FR Doc. 2022-23102 Filed 10-24-22; 8:45 am]

BILLING CODE 5001-06-P